DEPARTMENT OF HEALTH AND HUMAN SERVICES

Office of the Secretary

[Document Identifier OS-0990-0330-60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit an Information Collection Request (ICR), described below, to the Office of Management and Budget (OMB). The ICR is for extending the use of the approved information collection assigned OMB control number 0990-0330, which expires on 12/31/14. Prior to submitting that ICR to OMB, OS seeks comments from the public regarding the burden estimate, below, or any other aspect of the ICR.

DATES: Comments on the ICR must be received on or before November 3, 2014.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION:

Information Collection Request Title: Annual Appellant Climate Survey—Office of Medicare Hearings and Appeals (OMHA).

OMB No.: 0990—0330.

Abstract: The annual OMHA Appellant Climate Survey is a survey of Medicare beneficiaries, providers, suppliers, or their representatives who participated in a hearing before an Administrative Law Judge (ALJ) from the Office of Medicare Hearings and Appeals (OMHA). Appellants dissatisfied with the outcome of their Level 2 Medicare appeal may request a hearing before an OMHA ALJ. The Appellant Climate Survey will be used to measure appellant satisfaction with their OMHA appeals experience, as opposed to their satisfaction with a specific ruling.

OMHA was established by the Medicare Prescription Drug, Improvement, and Modernization Act (MMA) of 2003 (Pub. L. 108-173) and became operational on July 1, 2005. The MMA legislation and implementing regulations issued on March 8, 2007 instituted a number of changes in the appeals process. The MMA legislation also directed the U.S. Department of Health and Human Services to consider the feasibility of conducting hearings using telephone or video-teleconference (VTC) technologies. In carrying out this mandate, OMHA makes use of VTC to provide appellants with a vast nationwide network of access points for hearings close to their homes. The first three-year administration cycle of the OMHA survey began in FY08 and a second three-year cycle began in FY12. The survey will continue to be conducted annually over a three-year period, beginning in FY15.

Likely Respondents: Survey respondents will consist of Medicare beneficiaries, providers, suppliers, or their representatives who participated in a hearing before an OMHA ALJ. OMHA will draw a representative, non-redundant sample of appellants whose cases have been closed in the last six months.

Total Estimated Annualized Burden—Hours
Type of respondent | Form name | Number of respondents | Number responses per respondent | Average burden per response (in hours) | Total burden hours
Charged at rate of Healthcare Providers and Suppliers | Form A | 240 | 1 | 11/60 | 44
Charged at rate of Beneficiaries | Form A | 160 | 1 | 11/60 | 29
Total |  | 400 | 1 | 11/60 | 73

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Darius Taylor,
Information Collection Clearance Officer.

[FR Doc. 2014-20769 Filed 8-29-14; 8:45 am]

BILLING CODE 4150-46-P